DEPARTMENT OF ENERGY

Federal Energy Regulatory Commission

[Project No. 12429-001—Montana]

Clark Canyon Dam Hydroelectric Project; Notice of Availability of Environmental Assessment

April 15, 2009.

In accordance with the National Environmental Policy Act of 1969 and the Federal Energy Regulatory Commission's (Commission or FERC) regulations, 18 CFR part 380 (Order No. 486, 52 FR 47897), the Office of Energy Projects has reviewed Clark Canyon Hydro, LLC's application for license for the proposed Clark Canyon Dam Hydroelectric Project, located at Clark Canyon reservoir on the Beaverhead River near the city of Dillon, Beaverhead County, Montana, and has prepared an environmental assessment (EA) for the project. The proposed project would occupy a total of 1.15 acres of Federal lands administered by the U.S. Bureau of Reclamation.

The EA contains the staff's analysis of the potential environmental impacts of the project, and concludes that licensing the project, with appropriate environmental protective measures, would not constitute a major Federal action that would significantly affect the quality of the human environment.

A copy of the EA is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, 202-502-8659.

You may also register online at http://www.ferc.gov/docs-filing/esubscription.asp to be notified via e-mail of new filings and issuances related to this or other pending projects. For assistance, contact FERC Online Support.

Any comments should be filed within 45 days ¹ from the date of this notice and should be addressed to: Kimberly D. Bose, Secretary, Federal Energy Regulatory Commission, 888 First Street, NE., Washington, DC 20426. Please affix Project No. 12429-001 to all comments. Comments may be filed electronically via the Internet in lieu of paper. The Commission strongly encourages electronic filings. See 18 CFR 385.2001(a)(1)(iii) and the instructions on the Commission's Web site (http://www.ferc.gov) under the “e-Filing” link. For a simpler method of submitting text-only comments, click on “Quick Comment.”

¹ Although the typical comment period for an EA is 30 days, the comment period in this instance is 45 days to allow the U.S. Fish and Wildlife Service and others to respond to Commission staff's preliminary section 10(j) determination, as discussed in section 5.4.1 of the EA.

For further information, contact Dianne Rodman by telephone at 202-502-6077 or by e-mail at dianne.rodman@ferc.gov.

Kimberly D. Bose,
Secretary.

[FR Doc. E9-9172 Filed 4-21-09; 8:45 am]

BILLING CODE 6717-01-P